NATIONAL AERONAUTICS AND SPACE ADMINISTRATION

[Notice: 21-001]

Notice of Intent To Grant a Partially Exclusive Patent License

AGENCY: National Aeronautics and Space Administration.

ACTION: Notice of intent to grant a partially exclusive patent license.

SUMMARY: NASA hereby gives notice of its intent to grant an exclusive, co-exclusive or partially exclusive patent license in the United States of America to practice the invention(s) described and claimed in U.S Patent No. 9,023,642 B2, Method and Apparatus for a Miniature Bioreactor System for Long-Term Cell Culture to Brand Labs USA, LLC, having its principal place of business in Pompano Beach, Florida. The fields of use may be limited. NASA has not yet made a determination to grant the requested license and may deny the requested license even if no objections are submitted within the comment period.

DATES: The prospective exclusive may be granted unless NASA receives written objections including evidence and argument, no later than January 29, 2021 that establish that the grant of the license would not be consistent with the requirements regarding the licensing of federally owned inventions as set forth in the Bayh-Dole Act and implementing regulations. Competing applications completed and received by NASA no later than January 29, 2021 will also be treated as objections to the grant of the contemplated exclusive, co-exclusive or partially exclusive license. Objections submitted in response to this notice will not be made available to the public for inspection and, to the extent permitted by law, will not be released under the Freedom of Information Act.

ADDRESSES: Objections relating to the prospective license may be submitted to Patent Counsel, Office of Chief Counsel, MS AL, NASA Johnson Space Center, 2101 NASA Parkway, Houston, TX 77058. Phone (281) 483-4871. Facsimile (281) 483-6936. Email: jsc-patentof@mail.nasa.gov.

FOR FURTHER INFORMATION CONTACT: Mr. Walter Ugalde, Technology Transfer and Commercialization Office/XT1, Johnson Space Center, Houston, TX 77058, (281) 483-8615.

SUPPLEMENTARY INFORMATION: This notice of intent to grant an exclusive, co-exclusive or partially exclusive patent license is issued in accordance with 35 U.S.C. 209(e) and 37 CFR 404.7(a)(1)(i). The patent rights in these inventions have been assigned to the United States of America as represented by the Administrator of the National Aeronautics and Space Administration. The prospective license will comply with the requirements of 35 U.S.C. 209 and 37 CFR 404.7.

Information about other NASA inventions available for licensing can be found online at http://technology.nasa.gov.

Helen M. Galus,
Agency Counsel for Intellectual Property.

[FR Doc. 2021-00610 Filed 1-13-21; 8:45 am]

BILLING CODE 7510-13-P